DEPARTMENT OF HOMELAND SECURITY

Federal Emergency Management Agency

[Docket ID FEMA-2010-0037]

Hazardous Fire Risk Reduction, East Bay Hills, CA

AGENCY: Federal Emergency Management Agency, DHS.

ACTION: Notice of extension of comment period.

SUMMARY: The Federal Emergency Management Agency (FEMA) is extending the comment period on its notice of intent to prepare an Environmental Impact Statement (EIS) evaluating the environmental impacts of funding a combination of hazardous fuel reduction projects within the East Bay Hills area in Alameda and Contra Costa Counties, California.

DATES: Comments must be submitted by October 1, 2010.

ADDRESSES: You may submit comments, identified by Docket ID FEMA-2010-0037, by one of the following methods:

• Federal eRulemaking Portal: http://www.regulations.gov. Search for Docket ID FEMA-2010-0037 and follow the instructions for submitting comments.

• Fax: 703-483-2999.

• Mail/Hand Delivery/Courier: Office of Chief Counsel, Federal Emergency Management Agency, 500 C Street, SW., Room 835, Washington, DC 20472-3100.

Instructions: All submissions received must include the agency name and Docket ID. Regardless of the method used for submitting comments or material, all submissions will be posted, without change, to the Federal eRulemaking Portal at http://www.regulations.gov, and will include any personal information you provide. Therefore, submitting this information makes it public. You may wish to read the Privacy Act notice that is available via a link in the footer of http://www.regulations.gov.

Docket: For access to the docket for this notice or comments submitted by the public on this notice, go to the Federal eRulemaking Portal at http://www.regulations.gov search for docket ID FEMA-2010-0037. These documents may also be inspected at FEMA, Office of Chief Counsel, Room 835, 500 C Street, SW., Washington, DC 20472-3100.

FOR FURTHER INFORMATION CONTACT: Alessandro Amaglio, Regional Environmental Officer, Region IX, FEMA, 111 Broadway, Suite 1200, Oakland, CA 94607-4052 and phone number at (510) 627-7027.

SUPPLEMENTARY INFORMATION: On June 10, 2010, (75 FR 32960), FEMA published a notice of intent to prepare an EIS and request for comments for four hazard mitigation applications for fuel reduction projects in the East Bay Hills area in California pursuant to Section 102(2)(C) of the National Environmental Policy Act of 1969 (NEPA), the Council on Environmental Quality (CEQ) regulations implementing NEPA, and FEMA's Environmental Considerations regulations.

FEMA is extending the public comment period on the notice of intent to prepare an EIS to accommodate comments that the Federal, State, Tribal, and local government agencies and interested members of the public may have after the public scoping meetings.

Authority: 42 U.S.C. 4331 et seq.; 40 CFR part 1500; 44 CFR part 10.

Dated: July 19, 2010.
W. Craig Fugate,
Administrator, Federal Emergency Management Agency.

[FR Doc. 2010-18484 Filed 7-27-10; 8:45 am]

BILLING CODE 9111-A6-P